DEPARTMENT OF COMMERCE

International Trade Administration

A-570-863

Honey from the People's Republic of China: Initiation of New Shipper Antidumping Duty Review

AGENCY: Import Administration, International Trade Administration, Department of Commerce.

EFFECTIVE DATE: August 5, 2005.

SUMMARY: In June 2005, the Department of Commerce (“the Department”) received two requests to conduct new shipper reviews of the antidumping duty order on honey from the People's Republic of China (“PRC”). We have determined that these requests meet the statutory and regulatory requirements for the initiation of new shipper reviews.

FOR FURTHER INFORMATION CONTACT: Anya Naschak at (202) 482-6375 or Candice Kenney Weck at (202) 482-0938; AD/CVD Operations, Office 9, Import Administration, International Trade Administration, U.S. Department of Commerce, 14th Street and Constitution Avenue, NW, Washington, DC 20230.

SUPPLEMENTARY INFORMATION:

Background

The Department received timely requests from Shanghai Taiside Trading Co., Ltd. (“Shanghai Taiside”) and Wuhan Shino-Food Trade Co., Ltd. (“Shino-Food”) in accordance with 19 CFR 351.214 (c), for new shipper reviews of the antidumping duty order on honey from the PRC, which has a December annual anniversary month, and a June semi-annual anniversary month. Shanghai Taiside and Shino-Food identified themselves as producers and exporters of honey. As required by 19 CFR 351.214(b)(2)(i), and (iii)(A), Shanghai Taiside and Shino-Food certified that they did not export honey to the United States during the period of investigation (“POI”), and that they have never been affiliated with any exporter or producer which exported honey to the United States during the POI. Furthermore, the two companies have also certified that their export activities are not controlled by the central government of the PRC, satisfying the requirements of 19 CFR 351.214(b)(2)(iii)(B). Pursuant to the Department's regulations at 19 CFR 351.214(b)(2)(iv), Shanghai Taiside and Shino-Food submitted documentation establishing the date on which the subject merchandise was first entered for consumption in the United States, the volume of that first shipment and any subsequent shipments, and the date of the first sale to an unaffiliated customer in the United States.

On July 14, 2005, the Department issued a pre-initiation supplemental questionnaire to Shanghai Taiside to clarify certain information submitted in their request to the Department for a new shipper review. In Shanghai Taiside's supplemental questionnaire response, dated July 18, 2005, Shanghai Taiside responded to the Department's request for clarification on its relationship to the importer of record, the merchandise under review, and entry documentation. Also, on July 26, 2005, Shanghai Taiside submitted comments on information obtained by the Department concerning their U.S. customer.

The Department conducted Customs database queries to confirm that Shanghai Taiside's and Shino-Food's shipments had officially entered the United States via assignment of an entry date in the Customs database by U.S. Customs and Border Protection (“CBP”). In addition, the Department confirmed the existence of Shanghai Taiside and Shino-Food and their U.S. customers.

Initiation of Review

In accordance with section 751(a)(2)(B) of the Tariff Act of 1930 (“the Act”), as amended, and 19 CFR 351.214(d)(1), and based on information on the record, we are initiating new shipper reviews for Shanghai Taiside and Shino-Food. See Memorandum to the File through James C. Doyle, “New Shipper Review Initiation Checklist,” dated August 1, 2005. Although we found that Shanghai Taiside's U.S. customer had asserted in a trade show publication that it is a packing division of a Chinese exporter of honey, Shanghai Taiside asserts in its July 26, 2005, submission that it is not affiliated with its U.S. customer. Therefore, for purposes of this initiation, we find that Shanghai Taiside and its U.S. customer are not affiliated. However, we will examine the issue of Shanghai Taiside's potential affiliation with its U.S. customer further during the course of the new shipper review. We intend to issue the preliminary results of these reviews not later than 180 days after the date on which these reviews were initiated, and the final results of these reviews within 90 days after the date on which the preliminary results were issued.

Pursuant to 19 CFR 351.214(g)(1)(i)(A) of the Department's regulations, the period of review (“POR”) for a new shipper review, initiated in the month immediately following the semi-annual anniversary month, will be the six-month period immediately preceding the semi-annual anniversary month. Therefore, the POR for the new shipper reviews of Shanghai Taiside and Shino-Food is December 1, 2004 through May 31, 2005.

It is the Department's usual practice in cases involving non-market economies to require that a company seeking to establish eligibility for an antidumping duty rate separate from the country-wide rate provide evidence of de jure and de facto absence of government control over the company's export activities. Accordingly, we will issue questionnaires to Shanghai Taiside and Shino-Food, including a separate rates section. The review will proceed if the responses provide sufficient indication that Shanghai Taiside and Shino-Food are not subject to either de jure or de facto government control with respect to their exports of honey. However, if either Shanghai Taiside or Shino-Food does not demonstrate their eligibility for a separate rate, then that company will be deemed not separate from other companies that exported during the POI and the new shipper review will be rescinded as to that company.

In accordance with section 751(a)(2)(B)(iii) of the Act and 19 CFR 351.214(e), we will instruct CBP to allow, at the option of the importers, the posting, until the completion of the review, of a single entry bond or security in lieu of a cash deposit for certain entries of the merchandise exported by Shanghai Taiside and Shino-Food. Specifically, since Shanghai Taiside and Shino-Food have stated that they are both the producers and exporters of the subject merchandise for the sales under review, we will instruct CBP to limit the bonding option only to entries of merchandise that were both exported and produced by Shanghai Taiside and Shino-Food, respectively.

Interested parties that need access to proprietary information in these new shipper reviews should submit applications for disclosure under administrative protective orders in accordance with 19 CFR 351.305 and 351.306.

This initiation and notice are in accordance with section 751(a) of the Act (19 U.S.C. 1675(a)) and 19 CFR 351.214(d).

Dated: August 1, 2005.
Gary Taverman,
Acting Deputy Assistant Secretary for Import Administration.

[FR Doc. E5-4236 Filed 8-4-05; 8:45 am]

BILLING CODE 3510-DS-S